DEPARTMENT OF HOMELAND SECURITY

Coast Guard

[Docket Number USCG-2025-0192]

Imposition of Conditions of Entry for Vessels Arriving to the United States From the Democratic People's Republic of Korea (North Korea)

AGENCY: Coast Guard, DHS.

ACTION: Notice.

SUMMARY: The Coast Guard announces that it will impose conditions of entry on vessels arriving from the Democratic People's Republic of Korea (North Korea). Conditions of entry are intended to protect the United States from vessels arriving from foreign ports or places that have been found to have deficient antiterrorism measures.

DATES: The policy announced in this notice is effective on September 2, 2025.

FOR FURTHER INFORMATION CONTACT: For information about this document please contact Mr. Edward Munoz, Division Chief of International Port Security Program, USCG, at email HQS-DG-IPSProgramHQs@uscg.mil or call 202-372-2122.

SUPPLEMENTARY INFORMATION:

Background and Purpose

The authority for this notice is 5 U.S.C. 552(a), 46 U.S.C. 70110 (“Maritime Transportation Security Act”), and Department of Homeland Security Delegation No. 00170.1(II) (97.f), Revision No. 01.4. As delegated, 46 U.S.C. 70110(a) authorizes the Coast Guard to impose conditions of entry on vessels arriving in U.S. waters from foreign ports that the Coast Guard has not found to maintain effective antiterrorism measures. Section 70108, as amended by section 5603 of the National Defense Authorization Act for Fiscal Year 2024 (Pub. L. 118-31, Dec. 22, 2023), states that DHS shall deem any port under the jurisdiction of a foreign government that is a state sponsor of terrorism as not having effective antiterrorism measures, and immediately apply the sanctions described in 46 U.S.C. 70110(a) to such a port.

In accordance with 46 U.S.C. 70108, as amended, and the Department of State's designation of the Democratic People's Republic of Korea as a State Sponsor of Terrorism, the Coast Guard finds that Democratic People's Republic of Korea does not have effective antiterrorism measures.

With this notice, the current list of countries assessed and not maintaining effective antiterrorism measures is as follows: Cambodia, Cameroon, Comoros, Cuba, Democratic People's Republic of Korea (North Korea), Equatorial Guinea, Gambia (The), Guinea-Bissau, Iran, Iraq, Libya, Madagascar, Micronesia (Federated States of), Nauru, Nigeria, Sao Tome and Principe, Seychelles, Sudan, Syria, Timor-Leste, Venezuela, and Yemen. The current Port Security Advisory is available at: http://www.dco.uscg.mil/Our-Organization/Assistant-Commandant-for-Prevention-Policy-CG-5P/International-Domestic-Port-Assessment/.

Dated: August 12, 2025.
Douglas M. Schofield,
Rear Admiral, Deputy Commandant for Operations, Acting, U.S. Coast Guard.

[FR Doc. 2025-15754 Filed 8-18-25; 8:45 am]

BILLING CODE 9110-04-P